DEPARTMENT OF DEFENSE

Department of the Army; Corps of Engineers

Notice of Availability of the Draft Environmental Impact Statement (DEIS) for the Installation of a Terminal Groin Structure at the Eastern End of Ocean Isle Beach, Extending Into the Atlantic Ocean, West of Shallotte Inlet (Brunswick County, NC)

AGENCY: Department of the Army, U.S. Army Corps of Engineers, DoD.

ACTION: Notice of availability.

SUMMARY: The U.S. Army Corps of Engineers (USACE), Wilmington District, Wilmington Regulatory Field Office has received a request for Department of the Army authorization, pursuant to Section 404 of the Clean Water Act and Section 10 of the Rivers and Harbor Act, from the Town of Ocean Isle Beach to install a terminal groin structure on the east side of Ocean Isle Beach, extending into the Atlantic Ocean, just west of Shallotte Inlet. The structure will be designed to function in concert with the Federal storm damage reduction project.

DATES: The public is invited to attend, and/or comment at, a public hearing to be held at Union Elementary School, 180 Union School Rd., NW., Shallotte, NC 28459, on February 24, at 6:00 p.m. Written comments on the DEIS will be received until 5 p.m., March 9, 2015.

ADDRESSES: Copies of comments and questions regarding the DEIS may be submitted to: U.S. Army Corps of Engineers (Corps), Wilmington District, Regulatory Division, c/o Mr. Tyler Crumbley. ATTN: File Number SAW-2011-01241, 69 Darlington Avenue, Wilmington, NC 28403.

FOR FURTHER INFORMATION CONTACT: Questions about the proposed action and DEIS can be directed to Mr. Tyler Crumbley, Wilmington Regulatory Field Office, telephone: (910) 251-4170, facsimile (910) 251-4025, or email at tyler.crumbley@usace.army.mil.

SUPPLEMENTARY INFORMATION:

1. Project Description. The Town of Ocean Isle Beach is seeking Federal and State authorization for construction of a terminal groin, and associated beach fillet with required maintenance, to be located at the eastern end of Ocean Isle Beach. The proposed terminal groin and beach fillet is the Town's preferred alternative (#5) of five alternatives considered in this document. Under the preferred alternative, the terminal groin would have a seaward section extending 750-feet seaward of the April 2007 mean high water shoreline and a 300-foot shore anchorage section extending landward of the April 2007 mean high water shoreline. The seaward section would be constructed with loosely placed armor stone to facilitate the movement of sand past the structure. The shore anchorage section would be constructed with sheet pile which would have a top elevation varying from +4.9 feet NAVD to +4.5 feet NAVD.

The proposed terminal groin is one of four such structures approved by the General Assembly to be constructed in North Carolina following passing of Senate Bill (SB) 110. The U.S. Army Corps of Engineers (USACE) determined that there is sufficient information to conclude that the project would result in significant adverse impact on the human environment, and has prepared a DEIS pursuant to the National Environmental Policy Act (NEPA) to evaluate the environmental effects of the alternatives considering the project's purpose and need. The purpose and need of the proposed terminal groin and beach fillet is to provide shoreline protection that would mitigate chronic erosion on the eastern portion on the Town's oceanfront shoreline so as to preserve the integrity of its infrastructure, provide protection to existing development, and ensure the continued use of the oceanfront beach along this area.

2. Issues. There are several potential environmental and public interest issues that are addressed in the DEIS. Public interest issues include, but are not limited to, the following: Public safety, aesthetics, recreation, navigation, infrastructure, solid waste, economics, and noise pollution. Additional issues may be identified during the public review process. Issues initially identified as potentially significant include:

a. Potential impacts to marine biological resources (benthic organisms, passageway for fish and other marine life) and Essential Fish Habitat.

b. Potential impacts to threatened and endangered marine mammals, reptiles, birds, fish, and plants.

c. Potential for effects/changes to Ocean Isle beach, Holden Beach, and Shallotte inlet, respectively.

d. Potential impacts to navigation.

e. Potential effects on regional sand sources and sand management practices, including the Federal (Ocean Isle Beach storm damage reduction) project.

f. Potential effects of shoreline protection.

g. Potential impacts on public health and safety.

h. Potential impacts to recreational and commercial fishing.

i. Potential impacts to cultural resources.

j. Potential impacts to future dredging and nourishment activities.

3. Alternatives. Five alternatives are being considered for the proposed project. These alternatives, including the No Action alternative, were further formulated and developed during the scoping process and are considered in the DEIS. A summary of alternatives under consideration are provided below:

a. Alternative 1—No Action (Continue Current Management Practices).

b. Alternative 2—Abandon/Retreat.

c. Alternative 3—Beach Fill Only (Including Federal Project).

d. Alternative 4—Shallotte Inlet Bar Channel Realignment with Beach Fill (Including Federal Project).

e. Alternative 5—Terminal Groin with Beach Fill (Including Federal Project)/Applicants Preferred Alternative.

4. Scoping Process. Project Review Team meetings were held to receive comments and assess concerns regarding the appropriate scope and preparation of the DEIS. Federal, state, and local agencies and other interested organizations and persons participated in these Project Review Team meetings.

The Corps will initiate consultation with the United States Fish and Wildlife Service pursuant to the Endangered Species Act and the Fish and Wildlife Coordination Act. The Corps will also consult with the National Marine Fisheries Service pursuant to the Magnuson-Stevens Act and Endangered Species Act. The Corps will coordinate with the State Department of Cultural Resources pursuant to Section 106 of the National Historic Preservation Act.

Potential water quality concerns will be addressed pursuant to Section 401 of the Clean Water Act through coordination with the North Carolina Divisions of Coastal Management (DCM) and Water Resources (DWR). This coordination will insure consistency with the Coastal Zone Management Act and project compliance with water quality standards. The Corps has coordinated closely with DCM in the development of the DEIS to ensure the process complies with State Environmental Policy Act (SEPA) requirements, as well as the NEPA requirements. The DEIS has been designed to consolidate both NEPA and SEPA processes to eliminate duplications.

5. Availability of the DEIS. The DEIS has been published and circulated. The DEIS for the proposal can be found at the following link: http://www.saw.usace.army.mil/Missions/RegulatoryPermitProgram.aspx under Major Projects/Town of Ocean Isle Terminal Groin Project. The public is invited to attend, and/or comment at, a public hearing to be held at Union Elementary School, 180 Union School Rd., NW., Shallotte, NC 28459, on February 24, at 6:00 p.m. Written comments on the DEIS will be received until 5 p.m., March 9, 2015.

Dated: January 14, 2015.
Scott McLendon,
Chief, Regulatory Division.

[FR Doc. 2015-01035 Filed 1-22-15; 8:45 am]

BILLING CODE 3720-58-P